NATIONAL CREDIT UNION ADMINISTRATION

Agency Information Collection Activities: Submission to OMB for a New Collection; Comment Request

AGENCY: National Credit Union Administration (NCUA).

ACTION: Request for comment.

SUMMARY: The NCUA is submitting the following information collection to the Office of Management and Budget (OMB) for review and clearance under the Paperwork Reduction Act of 1995 (Pub. L. 104-13, 44 U.S.C. Chapter 35). This information collection is published to obtain comments from the public.

DATES: Comments will be accepted until June 20, 2011.

ADDRESSES: Interested parties are invited to submit written comments to the NCUA Clearance Officer listed below:

Clearance Officer: Tracy Sumpter, National Credit Union Administration, 1775 Duke Street, Alexandria, VA 22314-3428, Fax No. 703-837-2861, E-mail: OCIOMail@ncua.gov.

FOR FURTHER INFORMATION CONTACT: Requests for additional information or a copy of the information collection request should be directed to Tracy Sumpter at the National Credit Union Administration, 1775 Duke Street, Alexandria, VA 22314-3428, or at (703) 518-6444.

SUPPLEMENTARY INFORMATION: Proposal for the following collection of information:

Title: Corporate Federal Credit Union Chartering Guidelines.

OMB Number: 3133-NEW.

Form Number: NCUA Forms 4001, 4008, 4012, 9500, 9501.

Type of Review: New collection.

Description: The proposed interpretive ruling and policy statement sets forth the requirements and process for chartering corporate Federal credit unions.

Respondents: Natural person credit unions seeking to establish a new corporate FCU.

Estimated No. of Respondents/Recordkeepers: 1.

Estimated Burden Hours per Response: 328 hours.

Frequency of Response: Once.

Estimated Total Annual Burden Hours: 328 hours.

Estimated Total Annual Cost: 0.

By the National Credit Union Administration Board on April 14, 2011.
Mary Rupp,
Secretary of the Board.

[FR Doc. 2011-9544 Filed 4-19-11; 8:45 am]

BILLING CODE 7535-01-P